DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before April 25, 2025.

ADDRESSES: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on March 6, 2025.
Donald P. Burger,
Chief, General Approvals and Permits Branch.

Special Permits Data
Application No. | Applicant | Regulation(s) affected | Nature of the special permits thereof
21940-N | Shijiazhuang Enric Gas Equipment Co., Ltd | 178.37(k)(2)(i), 178.37(l), 178.45(j)(1), 178.45(k)(2) | To authorize the manufacture, mark, sale, and use of specification DOT 3AA, 3AAX and DOT 3T cylinders using an alternative tensile test specimen for batch acceptance as specified in the UN ISO 11120. (modes 1, 2, 3).
21941-N | Colorado Fey Innovations | 178.42(a), 178.42(f) | To authorize the manufacture, mark, sale, and use of non-DOT specification cylinders, similar to DOT 3E specification cylinders, for the transport of non-liquefied compressed gases. (modes 1, 2, 3, 4).
21942-N | Aesc US, LLC | 172.101(j) | To authorize the transportation in commerce of lithium ion batteries exceeding 35 kg by cargo-only aircraft. (mode 4).
21943-N | Hazmatpac, Inc | 172.301 | To authorize the manufacture, mark, sale, and use of specially designed combination packaging for transportation in commerce of certain materials without requiring labels or placards. (modes 1, 2, 3, 4, 5).
21947-N | Amazon.com, Inc | 172.315(a)(2) | To authorize the transportation in commerce of hazardous materials qualifying for a limited quantity exception, using a reduced size limited quantity mark for customer return shipments. (modes 1, 2).
21948-N | Amazon.com, Inc | 172.602(c), 172.201(a)(2), 172.203(a), 177.817(a), 177.817(e) | To authorize the transportation in commerce of hazardous materials where an electronic shipping paper is used in lieu of a physical shipping paper document. (mode 1).
21950-N | Veolia ES Technical Solutions, LLC | 172.320, 173.56(b) | To authorize the transportation in commerce of unapproved pyrotechnic materials for disposal. (mode 1).
21951-N | Busek Co., Inc | 173.301(f)(1), 178.35(e) | To authorize the transportation in commerce of xenon propulsion systems utilizing cylinders manufactured in accordance with DOT-SP 11194 (fully wrapped carbon-fiber reinforced aluminum cylinders) that are not equipped with pressure relief devices. (modes 1, 2, 3, 4, 5).
21953-N | Exolaunch, Inc | 173.1 | To authorize the transportation in commerce of cubesat satellite from the fueling location to the launch location by private vehicle. (mode 1).
21955-N | United States Department of Energy | 173.211 | To authorize the transportation in commerce of articles containing sodium using an alternative packaging scheme. (mode 1).
21956-N | Zoox, Inc | 172.101(j) | To authorize the transportation in commerce of lithium batteries exceeding 35 kg via cargo-only aircraft. (mode 4).
21957-N | US Contract Trucking, Inc | 172.203(a), 172.301(c), 177.834(h) | To authorize the discharge of certain Class 3, Division 6.1 and Class 8 and Class 9 liquids from a UN Specification drum without removing the drum from the vehicle on which it is transported. (mode 1).
21958-N | US Contract Trucking, Inc | 172.203(a), 172.302(c), 177.834(h) | To authorize the discharge of certain Class 3, Division 6.1 and Class 8 and Class 9 liquids from a DOT Specification intermediate bulk containers (IBC's) without removing them from the vehicle on which it is transported. (mode 1).

[FR Doc. 2025-05048 Filed 3-25-25; 8:45 am]

BILLING CODE P